DEPARTMENT OF TRANSPORTATION

Federal Transit Administration

Preparation of an Environmental Impact Statement for a Proposed Transit Improvement Project in Branson, Missouri

AGENCY: Federal Transit Administration (FTA), DOT.

ACTION: Notice of Intent to prepare an Environmental Impact Statement.

SUMMARY: FTA is issuing this notice to advise agencies and the public that an Environmental Impact Statement (EIS) will be prepared for a proposed transit improvement project in Branson, MO.

DATES: Scoping Meeting: A scoping meeting is scheduled for resource agencies at 2 p.m. on Tuesday, June 29, 2004 at the Branson City Hall Municipal Courtroom (110 West Maddux Street; Branson, MO) and will be followed by a public open house at the same location and date from 4 to 7 p.m. (to be advertised locally). Oral and written comments may be made at these sessions. Project staff will be available at the sessions for informational discussion and to answer questions. These sessions will identify the core study-area boundary; the study schedule; the public involvement plan; the problem statement; the project purpose and need; the study goals and objectives; effectiveness measures, as well as identify the range of alternatives to be considered in the study. Input will be solicited at both sessions to focus the environmental investigations. The meeting location is accessible to individuals with disabilities. Individuals with special needs contact Cheryl Ford, Engineering Department; City of Branson, MO at (417) 337-8559. Comment Due Date: Written comments on the scope of the EIS should be sent to the Branson City Engineer at ADDRESSES given below by July 30, 2004.

ADDRESSES: Written comments on the project scope should be forwarded to: Joni Roeseler, Project Manager; Federal Transit Administration, Region VII; 901 Locust Street, Room 404; Kansas City, Missouri 64106; Telephone: (816) 329-3936; Email: joan.roeseler@fta.dot.gov; or: David Miller, City Engineer; City of Branson; 110 West Maddux Street, Suite 310; Branson, Missouri 65616; Telephone: (417) 337-8559; Email: dmiller@cityofbranson.org.

FOR FURTHER INFORMATION CONTACT: the FTA or the city of Branson personnel identified at the ADDRESSES given above. You can also visit the City of Branson website, identified as www.branson.com where a project page is expected to be established at the time of the scoping meeting. Scoping Package: An information packet, referred to as the Scoping Booklet, will be distributed to all public agencies and interested individuals and will be available at the meetings. Others may request the Scoping Booklet by contacting the Branson City Engineer at ADDRESSES given below. If you wish to be placed on the mailing list to receive additional information as the project develops, contact the Branson City Engineer at ADDRESSES given below.

SUPPLEMENTARY INFORMATION: FTA, in cooperation with the city of Branson and the Missouri Department of Transportation (MoDOT), will prepare an EIS on a proposal to address transit improvements in the city of Branson, MO. The EIS will include identification and evaluation of all reasonable multi-modal alternatives as defined under the National Environmental Policy Act (NEPA) scoping process. This alternatives analysis and NEPA evaluation process is expected to result in the selection of a locally preferred transit alternative, which may include a fixed guideway alternative.

Branson, Missouri, with a population of about 6,000, accommodates over seven million visitors a year. These visitors make trips to multiple venues (theaters, lodging, restaurants, etc.), which are concentrated along State Route 76. This roadway, referred to as “The Strip”, offers a single lane of vehicular flow in each direction divided by a two-way left-turn lane. The roadway is paralleled by narrow paved shoulders used as sidewalks and by multiple overhead utilities situated adjacent to intensive development. Only a handful of signalized intersections exist along the Strip, complicating the ability of pedestrians to get across the street. Options are limited to further expand the roadway network to address the considerable traffic congestion that remains on the Strip from single-occupant autos and tour buses. No public transit service is currently available in the corridor. The problem is expected to grow worse over time as venues continue to grow in popularity and as more venues are added.

Transit needs will be evaluated in this corridor to address the congestion problems along the Strip. The core study-area boundary involves a roughly ten-mile-long corridor. It is generally bounded: On the north by the Red Route west of Roark Creek and the Missouri and North Arkansas Railroad east of Roark Creek; on the east by the rail line; on the south by parkland paralleling Lake Taneycomo and the Yellow Route; and on the west by the Taney/Stone County line. Alternatives to be considered will include: (1) Taking no action (no-build); (2) transportation systems management; (3) transit; (4) fixed guideway transit (including elevated options with park-n-ride facilities and feeder bus/shuttle vans); and (5) other alternatives discovered during the scoping process.

The social, economic, and environmental effects of the transit options will be evaluated in the project study. The impact areas to be addressed include: Land use effects; visual/aesthetic effects; community, business and economic impacts; traffic and parking; public safety; utilities effects; relocations; water quality; floodplains; natural systems impacts; air quality; noise and vibration; energy impacts; cultural and historic resources; etc. Potential environmental justice issues and financial considerations will also be addressed along with secondary, cumulative and construction impacts.

In accordance with FTA policy, all federal laws, regulations, and executive orders affecting project development including but not limited to the regulations of the Council on Environmental Quality and FTA regulations implementing NEPA (40 CFR parts 1500-1508, and 23 CFR part 771) the 1990 Clean Air Act Amendments, Section 404 of the Clean Water Act, Executive Order 12898 regarding environmental justice, the National Historic Preservation Act, the Endangered Species Act, and Section 4(f) of the DOT Act, will be addressed. In addition, FTA New Starts regulation (49 CFR part 611) will be applied, which requires the submission of specific information to FTA from the applicant to support initiating preliminary engineering in conjunction with the NEPA process.

Letters describing the proposed action and soliciting comments will be sent to appropriate federal, state, and local agencies, and to private organizations and citizens who have previously expressed or are known to have interest in this proposal. The study will include a number of public involvement outreach activities. Letters setting out the problem statement, purpose and need, project goals and objectives, effectiveness measures, and describing the range of alternatives to be considered along with the study schedule will be sent to appropriate federal, state, and local agencies. A Project Oversight Committee (POC), providing input from a broad range of community interests, is being established and will be furnished with the same information.

Comments and suggestions are invited from all interested parties to assist in addressing the full range of alternatives and to identify any significant potential project impacts. In addition, a public hearing will be held after the Draft EIS has been circulated for public and agency review and comment. Comments or questions concerning the proposed action and the Draft EIS should be directed to the FTA at the address provided above.

Issued on: June 9, 2004.
Mokhtee Ahmed,
Regional Administrator.

[FR Doc. 04-13471 Filed 6-14-04; 8:45 am]

BILLING CODE 4910-57-P